DEPARTMENT OF HEALTH AND HUMAN SERVICES

Health Resources and Services Administration

Agency Information Collection Activities: Submission to OMB for Review and Approval; Public Comment Request; Ryan White HIV/AIDS Program Part F Dental Services Report, OMB No. 0915-0151—Extension

AGENCY: Health Resources and Services Administration (HRSA), Department of Health and Human Services.

ACTION: Notice.

SUMMARY: In compliance with of the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than July 3, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Ryan White HIV/AIDS Program Part F Dental Services Report, OMB No. 0915-0151—Extension.

Abstract: The Dental Reimbursement Program (DRP) and the Community Based Dental Partnership Program (CBDPP) under Part F of the Ryan White HIV/AIDS Program (RWHAP) offer funding to accredited dental education programs to support the education and training of oral health providers in HIV oral health care and reimbursement for the provision of oral health services for people eligible for the RWHAP. Institutions eligible for RWHAP DRP and CBDPP are accredited schools of dentistry and other accredited dental education programs, such as dental hygiene programs or those sponsored by a school of dentistry, a hospital, or a public or private institution that offers postdoctoral training in the specialties of dentistry, advanced education in general dentistry, or a dental general practice residency. The RWHAP DRP Application for the Notice of Funding Opportunity includes the Dental Services Report (DSR) that applicants use to apply for funding of non-reimbursed costs incurred in providing oral health care to patients with HIV and to report annual program data. Awards are authorized under section 2692(b) of the Public Health Service Act (42 U.S.C. 300ff-111(b)). The form is also used by CBDPP recipients to report on services rendered, patients served, and partnerships as an annual data report. The DSR collects data on program information, client demographics, oral health services, funding, and training. It also requests applicants to provide narrative descriptions of their services and facilities, as well as their linkages and how they collaborate with community-based providers of oral health services.

Beginning with the 2022 DSR submission, the DSR website provided RWHAP DRP applicants and RWHAP CBDPP recipients an easily accessible and secure location to enter and submit their aggregate DSR data annually. The web-based platform is accessible by all users and allows users to easily navigate the site and enter their data. Users can see their report submission status and will no longer email their completed dataset to HRSA. The implementation of the DSR website has contributed to the overall decrease in burden hours. HRSA proposes two additions to the DSR data reporting tool. First, HRSA proposes adding an additional response option to the HIV/AIDS Status question to record clients whose HIV status is indeterminate. Second, HRSA proposes adding a question that will identify specific populations such as LGBTQI, urban/suburban/rural persons, homeless persons, persons with substance use disorder, migrant or seasonal workers, incarcerated/paroled persons, and/or runaway youth, who were specifically prioritized to receive services through community-based partnership programs.

A 60-day notice was published in the Federal Register on March 8, 2023 (Volume 88, No. 45, pages 14375-76). There were no public comments in response to the notice.

Need and Proposed Use of the Information: The primary purpose of collecting this information annually is to verify applicant eligibility and determine reimbursement amounts for DRP applicants, as well as to document the program accomplishments of CBDDP grant recipients. This information also allows HRSA to learn about (1) the extent of the involvement of dental schools and programs in treating persons with HIV, (2) the number and characteristics of clients who receive RWHAP supported oral health services, (3) the types and frequency of the provision of these services, (4) the non-reimbursed costs of oral health care provided to persons with HIV, and (5) the scope of grant recipients' community-based collaborations and training of providers. In addition to meeting the goal of accountability to Congress, clients, community groups, and the general public, information collected in the DSR is critical for HRSA and recipients to assess the status of existing HIV-related health service delivery systems. The information will provide the measurement data for the HRSA budget justifications on the following indicators: number of persons for whom a portion/percentage of their unreimbursed oral health costs were reimbursed and the number of providers trained through the RWHAP Part F Dental Reimbursement and Community-Based Partnership Programs.

Likely Respondents: Accredited schools of dentistry and other accredited dental education programs, such as dental hygiene programs or those sponsored by a school of dentistry, a hospital, or a public or private institution that offers postdoctoral training in the specialties of dentistry, advanced education in general dentistry, or a dental general practice residency.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Type of respondent | Number of respondents | Number of responses per respondent | Total responses | Average burden per response (in hours) | Total burden
Dental Services Report | DRP | 56 | 1 | 56 | 32.0 | 1,792
| CBDPP | 12 | 1 | 12 | 1.5 | 18
Total |  | 68 |  | 68 |  | 1,810

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-11588 Filed 5-31-23; 8:45 am]

BILLING CODE 4165-15-P